DEPARTMENT OF THE TREASURY

31 CFR Subtitles A and B

Semiannual Agenda and Fiscal Year 2015 Regulatory Plan

AGENCY: Department of the Treasury.

ACTION: Semiannual regulatory agenda and annual regulatory plan.

SUMMARY: This notice is given pursuant to the requirements of the Regulatory Flexibility Act and Executive Order (EO) 12866 (“Regulatory Planning and Review”), which require the publication by the Department of a semiannual agenda of regulations. EO 12866 also requires the publication by the Department of a regulatory plan for the upcoming fiscal year.

FOR FURTHER INFORMATION CONTACT: The Agency Contact identified in the item relating to that regulation.

SUPPLEMENTARY INFORMATION: The semiannual regulatory agenda includes regulations that the Department has issued or expects to issue and rules currently in effect that are under departmental or bureau review. For this edition of the regulatory agenda, the most important significant regulatory actions and a Statement of Regulatory Priorities are included in the Regulatory Plan, which appears in both the online Unified Agenda and in part II of the Federal Register publication that includes the Unified Agenda.

Beginning with the fall 2007 edition, the Internet has been the primary medium for disseminating the Unified Agenda. The complete Unified Agenda will be available online at www.reginfo.gov and www.regulations.gov, in a format that offers users an enhanced ability to obtain information from the Agenda database. Because publication in the Federal Register is mandated for the regulatory flexibility agenda required by the Regulatory Flexibility Act (5 U.S.C. 602), Treasury's printed agenda entries include only:

(1) Rules that are in the regulatory flexibility agenda, in accordance with the Regulatory Flexibility Act, because they are likely to have a significant economic impact on a substantial number of small entities; and

(2) Rules that have been identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years.

Brian J. Sonfield,
Deputy Assistant General Counsel for General Law and Regulation.

Financial Crimes Enforcement Network—Final Rule Stage
Sequence No. | Title | Regulation Identifier No.
362 | Financial Crimes Enforcement Network: Customer Due Diligence Requirements for Financial Institutions | 1506-AB25

DEPARTMENT OF THE TREASURY (TREAS)

Financial Crimes Enforcement Network (FINCEN)

Final Rule Stage

362. Financial Crimes Enforcement Network: Customer Due Diligence Requirements for Financial Institutions

Legal Authority: 31 U.S.C. 5311 to 5314; 12 U.S.C. 1829b

Abstract: The Financial Crimes Enforcement Network (FinCEN), after consulting with staff from various Federal supervisory authorities, is proposing rules under the Bank Secrecy Act to clarify and strengthen customer due diligence requirements for: (i) Banks; (ii) brokers or dealers in securities; (iii) mutual funds; and (iv) futures commission merchants and introducing brokers in commodities. The proposed rules would contain explicit customer due diligence requirements and would include a new requirement to identify beneficial owners of legal entity customers, subject to certain exemptions.

Timetable:

Action | Date | FR Cite
NPRM | 08/04/14 | 79 FR 45151
NPRM Comment Period End | 10/03/14
Final Action | 01/00/16

Regulatory Flexibility Analysis Required: Yes.

Agency Contact: Michael Vallely, Senior Regulatory Program Manager, Department of the Treasury, Financial Crimes Enforcement Network, 2070 Chain Bridge Road, Vienna, VA 22183-2536, Phone: 703 905-3851, Email: michael.vallely@fincen.gov.

RIN: 1506-AB25

[FR Doc. 2015-31005 Filed 12-14-15; 8:45 am]

BILLING CODE 4810-02-P